MILLENNIUM CHALLENGE CORPORATION

[MCC FR 09-11]

Notice of the June 10, 2009 Millennium Challenge Corporation Board of Directors Meeting; Sunshine Act Meeting

AGENCY: Millennium Challenge Corporation.

TIME AND DATE: 10 a.m. to 2 p.m., Wednesday, June 10, 2009.

Place: Department of State, 2201 C Street, NW., Washington, DC 20520.

FOR FURTHER INFORMATION CONTACT: Information on the meeting may be obtained from Romell Cummings via e-mail at Board@mcc.gov or by telephone at (202) 521-3600.

Status: Meeting will be closed to the public.

Matters To Be Considered: The Board of Directors (the “Board”) of the Millennium Challenge Corporation (“MCC”) will hold a meeting to discuss issues related to suspension and/or termination of Compact programs with certain countries eligible for assistance under the Millennium Challenge Act of 2003 (MCA); discuss progress on proposed and existing Compacts with certain MCA-eligible countries; discuss MCC's Threshold Program; and consider certain administrative matters. The agenda items are expected to involve the consideration of classified information and the meeting will be closed to the public.

Dated: May 28, 2009.
Henry C. Pitney,
Acting Vice President and General Counsel, Millennium Challenge Corporation.

[FR Doc. E9-12904 Filed 5-29-09; 4:15 pm]

BILLING CODE 9210-01-P